ENVIRONMENTAL PROTECTION AGENCY

[FRL-7837-8]

Announcement of the Delegation of the Title V Permitting Program, Consistent With Federal Operating Permit Programs to the Navajo Nation Environmental Protection Agency and the Suspension of Federal Operating Permit Program Fee Collection by EPA for Sources Covered by the Delegation of Authority Agreement

AGENCY: Environmental Protection Agency (EPA).

ACTION: Informational notice.

SUMMARY: The purpose of this notice is to announce that on October 15, 2004, EPA granted the Navajo Nation Environmental Protection Agency's (NNEPA) request for full delegation of authority to administer the Clean Air Act's (the Act) federal operating permits program. Under this delegation, NNEPA will issue and implement Title V operating permits for certain air pollution sources located within the formal boundaries of the Navajo Nation reservation and certain off-reservation Tribal Trust lands and will otherwise administer the program. The terms and conditions of the full delegation are specified in a Delegation of Authority Agreement (“Agreement”) between EPA Region IX and NNEPA, signed and dated on October 15, 2004. Region IX is also simultaneously suspending its collection of Part 71 fees, pursuant to 40 CFR 71.9(c)(2)(ii), for sources identified in this notice or otherwise covered by the Agreement.

EFFECTIVE DATES: The effective date for the Agreement between EPA and NNEPA, and EPA's suspension of its Part 71 fee collection for sources identified in this notice or otherwise covered by the Agreement, is October 15, 2004.

ADDRESSES: Copies of the letter requesting delegation of authority to administer the federal operating permits program and the Agreement between EPA and NNEPA are available for public inspection at EPA's Region IX Office, 75 Hawthorne Street, San Francisco, CA 94105 and at the Navajo Nation Environmental Protection Agency Air Quality Control Program Office, Rt. 12 North/Bldg #F004-051, Fort Defiance, AZ 86504. Effective October 15, 2004, all notifications, requests, applications, reports and other correspondence required under 40 CFR Part 71 for all Part 71 sources identified in this notice or otherwise covered by the Agreement shall be submitted to NNEPA's Air Quality Control Program Office at the following address: Navajo Nation Air Quality Control Program Office, P.O. BOX 529 Fort Defiance, AZ 86504 Attn: Chris Lee. Sources will also remain obligated to submit copies of such documents to EPA as set forth in the terms and conditions of their Part 71 permits and consistent with Section VII(2) of the Agreement.

FOR FURTHER INFORMATION CONTACT: Emmanuelle Rapicavoli, Permits Office (AIR-3), 75 Hawthorne Street, San Francisco, CA 94110, Telephone: 415-972-3969, e-mail: rapicavoli.emmanuelle@epa.gov.

SUPPLEMENTARY INFORMATION: The purpose of this notice is to announce that on October 15, 2004, EPA granted NNEPA's request for full delegation of authority to administer the Part 71 federal operating permits program for certain Part 71 sources. The Act and its implementing regulations under Part 71 authorize EPA to delegate authority to administer the Part 71 program to any eligible Tribe that submits a demonstration of adequate regulatory procedures and authority for administration of the Part 71 operating permits program.

In order to be considered an “eligible tribe,” the NNEPA submitted, on June 17, 2004, an application for a determination, under the provisions of the Tribal Authority Rule (TAR), 40 CFR Part 49, that it is eligible to be treated in the same manner as a state for the purpose of receiving delegation of authority to administer the federal Part 71 operating permit program. The application excluded the Four Corners Power Plant and the Navajo Generating Station. Region IX reviewed NNEPA's application and determined that it met the four criteria for eligibility, identified in 40 CFR 49.6, for the sources described, and was thus eligible for entering into a delegation agreement with Region IX to administer the Part 71 program. Region IX's eligibility determination was signed on October 13, 2004.

On July 16, 2004, NNEPA submitted a request to the Region to delegate the administration of the federal Part 71 program for certain Part 71 sources. The area included in the request, herein called the “Delegated Program Area,” includes all lands within the formal boundaries of the Navajo Nation Reservation and the satellite reservations of Alamo, Canoncito and Ramah and Tribal trust lands located outside of the formal reservations in the Eastern Agency, excluding the Bennet Freeze area.

As part of its request, NNEPA submitted a legal opinion from its attorney general stating that the Navajo Nation Air Pollution Prevention and Control Act and the Navajo Nation Air Quality Control Program Operating Permit Regulations provide it adequate authority to carry out all aspects of the delegated program. NNEPA provided all necessary documentation to demonstrate that it has adequate authority and adequate resources to administer the Part 71 federal permitting program.

Pursuant to 40 CFR 71.10(b), EPA hereby notifies the public that effective October 15, 2004, it has granted NNEPA's request and is fully delegating the authority to administer the federal operating permits program as set forth under 40 CFR Part 71 and in the Agreement. The terms and conditions for full delegation are specified in the Agreement between EPA Region IX and NNEPA signed and dated on October 15, 2004.

The Agreement applies to all new and existing sources within the Delegated Program Area except the Four Corners Power Plant and the Navajo Generating Station, for which Region IX retains sole authority to regulate under Title V. The existing Part 71 sources covered by the Agreement are the following: the El Paso Natural Gas Window Rock Compressor Station, the El Paso Natural Gas White Rock Compressor Station, the El Paso Natural Gas Navajo Compressor Station, the El Paso Natural Gas Leupp Compressor Station, the El Paso Natural Gas Dilkon Compressor Station, the Transwestern Pipeline Klagetoh Compressor Station, the Transwestern Pipeline Leupp Compressor Station, El Paso Natural Gas Gallup Compressor Station, the Conoco Phillips Wingate Fractionating Plant, Peabody Western Coal Company's Black Mesa Complex, the Chevron-Texaco Aneth Gas Plant, and the Exxon-Mobil McElmo Creek Unit. The Agreement also applies to all new Part 71 sources which will construct and operate within the Delegated Program Area as well as existing sources in the Delegated Program Area which later become subject to Part 71.

If, at any time, EPA determines that NNEPA is not or cannot adequately administer the requirements of Part 71 or fulfill the terms of the Agreement, this delegation may be revoked, in whole or in part, pursuant to 40 CFR 71.10(c). Under this delegation, EPA retains its authority to (1) object to the issuance of any Part 71 permit, (2) act upon petitions submitted by the public, and (3) collect fees from all owners or operators of sources described in the Agreement and subject to 40 CFR Part 71 if it is demonstrated that NNEPA is not adequately administering the Part 71 program in accordance with the Agreement, 40 CFR Part 71, and/or the Act. Because EPA is retaining its authority to act upon petitions submitted pursuant to 40 CFR 71.10(h) and 71.11(n), any such petitions must be submitted to Region IX following the procedures set forth in those regulations.

EPA also notifies the public, pursuant to 40 CFR 71.9(c)(2)(ii), that effective October 15, 2004, it has suspended collection of its Part 71 permit fees for those Part 71 sources identified in this notice or otherwise covered by the Agreement. In delegating the administration of the Part 71 program, EPA has determined that NNEPA can collect fees under tribal law sufficient to fund the delegated Part 71 program and carry out the duties specified in the Agreement. EPA retains its authority to collect Part 71 fees if it is demonstrated that NNEPA is not adequately administering the Part 71 program in accordance with the Agreement, Part 71, and/or the Act.

Dated: October 26, 2004.
Jane Diamond,
Acting Regional Administrator, Region 9.

[FR Doc. 04-25624 Filed 11-17-04; 8:45 am]

BILLING CODE 6560-50-P